NATIONAL FOUNDATION ON THE ARTS AND THE HUMANITIES

Institute of Museum and Library Services

Notice of Proposed Information Collection Requests: Generic Clearance To Conduct Pre-Testing of Surveys

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation to provide subject matter experts, the general public, and Federal agencies with an opportunity to comment on proposed and/or continuing collections of information in accordance with the Paperwork Reduction Act. This pre-clearance consultation practice helps ensure that requested data can be provided in the agency's desired format; that respondents' reporting burden (time and financial resources) is minimized; that collection instruments are clearly understood and cover material to which respondents can be responsive; and, that the impact of collection requirements on respondents can be properly assessed. The purpose of this Notice is to solicit comments related to conducting pre-tests of quantitative and qualitative data collection instruments and their related data collection procedures to improve the quality and usability of information collection instruments. A copy of the proposed information collection request can be obtained by contacting the individual listed below in the ADDRESSES section of this notice.

DATES: Written comments must be submitted to the office listed in the ADDRESSES section below on or before February 16, 2024.

ADDRESSES: Send comments to: Sandra Narva, Acting Director of Grants Policy and Management, Institute of Museum and Library Services, 955 L'Enfant Plaza North SW, Suite 4000, Washington, DC 20024-2135. Ms. Narva can be reached by telephone at 202-653-4634, or by email at snarva@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: For a copy of the documents contact: Jake Soffronoff, Survey Methodologist, Office of Research and Evaluation, Institute of Museum and Library Services, 955 L'Enfant Plaza North SW, Suite 4000, Washington, DC 20024-2135. Mr. Soffronoff can be reached by telephone: 202-653-4648, or by email at jsoffronoff@imls.gov. Persons who are deaf or hard of hearing (TTY users) can contact IMLS at 202-207-7858 via 711 for TTY-Based Telecommunications Relay Service.

SUPPLEMENTARY INFORMATION: IMLS is especially interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of Federal support for the Nation's libraries and museums. We advance, support, and empower America's museums, libraries, and related organizations through grant making, research, and policy development. To learn more, visit www.imls.gov.

II. Current Actions

This notice proposes the Generic Clearance to Conduct Pre-Testing of Surveys.

IMLS requests approval from the Office of Management and Budget (OMB) for a generic clearance that will allow IMLS to conduct a variety of data-gathering activities aimed at improving the quality and usability of information collection instruments associated with research and analysis activities, including but not limited to the National Museum Survey, the Public Libraries Survey and the State Library Administrative Agencies Survey.

IMLS envisions using a variety of techniques including field tests, respondent debriefing questionnaires, cognitive interviews, and focus groups to identify questionnaire and procedural problems, suggest solutions, and measure the relative effectiveness of alternative solutions.

Following standard OMB requirements, IMLS will submit a change request to OMB for each data collection activity undertaken under this generic clearance. IMLS will provide OMB with the instruments and supporting materials describing the research project and specific pre-testing activities.

Agency: Institute of Museum and Library Services.

Title: Generic Clearance to Conduct Pre-Testing of Surveys.

OMB Number: 3137-0125.

Affected Public: The respondents will be identified at the time that each change request is submitted to OMB. Respondents will include State, local, and Tribal governments.

Estimated Number of Respondents: TBD.

Estimated Number of Responses per Respondent: TBD.

Estimated Total Annual Responses: TBD.

Estimated Time per Response: TBD.

Estimated Total Annual Burden on Respondents: TBD.

Dated: December 12, 2023.
Suzanne Mbollo,
Grants Management Specialist, Institute of Museum and Library Services.

[FR Doc. 2023-27694 Filed 12-15-23; 8:45 am]

BILLING CODE 7036-01-P